NATIONAL SCIENCE FOUNDATION

Notice of Information Collection

AGENCY: National Science Foundation (NSF).

ACTION: Notice of information collection.

SUMMARY: The National Science Foundation (NSF) is announcing plans to request clearance of this collection. As part of its continuing effort to reduce paperwork and respondent burden, NSF invites the general public and other Federal agencies to take this opportunity to comment on proposed and/or continuing information collections, as required by the Paperwork Reduction Act of 1995 (Pub. L. 104-13, 44 U.S.C. 3506(c)(2)(A)). After obtaining and considering public comment, NSF will prepare the submission requesting OMB clearance of this collection for no longer than 3 years.

DATES: All comments should be submitted within 60 calendar days from the date of this publication. Comments received after 60 days will be considered to the extent practicable.

ADDRESSES: All written comments should be addressed to Suzanne Plimpton, Reports Clearance Officer, National Science Foundation, 4201 Wilson Blvd., Rm. 295, Arlington, VA 22230, or by e-mail to splimpto@nsf.gov.

FOR FURTHER INFORMATION CONTACT: Requests for additional information or copies of the information collection instrument(s) and instructions should be directed to Suzanne Plimpton, Reports Clearance Officer, National Science Foundation, 4201 Wilson Blvd., Rm. 295, Arlington, VA 22230, or by e-mail to splimpto@nsf.gov.

SUPPLEMENTARY INFORMATION:

I. Abstract

Since 1998, the National Science Foundation (NSF) has supported interdisciplinary training of doctoral students across the nation through the Integrative Graduate Education and Research Traineeship (IGERT) Program. NSF awards IGERT grants to institutions that develop innovative, interdisciplinary doctoral training programs in science, technology, engineering, and mathematics (STEM) disciplines. Unlike traditional graduate research or teaching assistantships, IGERT provides doctoral students with unrestricted funds, including a living stipend plus tuition and fees. NSF intends to conduct an implementation evaluation of the program to learn what program elements are most effective in fostering interdisciplinary collaborations, research, and learning. Specifically, the evaluation will assess the program's perceived progress towards its three goals of fostering interdisciplinary education, recruiting and retaining a diverse population of graduate students, and catalyzing cultural change within institutions to better support interdisciplinary endeavors. Data from this collection will be used by NSF to respond to OMB and congressional inquiries, document best practices for training interdisciplinary scientists, and inform decisions about future project modifications.

II. Method of Collection

Data will be collected via interviews and surveys from faculty members and students who have participated in the five most recent cohorts (2005-2009) of IGERT projects.

III. Data

Title: NSF IGERT: Implementation Evaluation.

OMB Number: 3145-0182.

Expiration Date: March 31, 2011.

Type of Review: Renewal.

Affected Public: Individuals.

Estimated Number of Respondents: 2,915 (2,000 survey only; 115 survey and interview; 800 interview only).

Estimated Number of Responses per Respondent: 1 or 2 (survey only; survey and interview).

Estimated Time Per Response: 20 minutes for survey only; 50 minutes for survey and interview; 30 minutes for interview only.

Estimated Total Annual Burden Hours: 1162.5 hours.

Estimated Total Annual Cost: $300,864.

IV. Request for Comments

Comments are invited on: (1) Whether the proposed collection of information is necessary for the proper performance of the functions of NSF, including whether the information collected has practical utility; (2) the accuracy of NSF's estimate of the burden (including hours and cost) of the proposed collection of information; (3) ways to enhance the quality, utility, and clarity of the information to be collected; and (4) ways to minimize the burden of the collection of information on respondents, including automated collection techniques or the use of other forms of information technology. Comments submitted in response to this notice will be summarized and included in the request for OMB approval of this information collection. They will also become a matter of public record.

Dated: September 6, 2010.
Suzanne Plimpton,
Reports Clearance Officer, National Science Foundation.

[FR Doc. 2010-22589 Filed 9-9-10; 8:45 am]

BILLING CODE 7555-01-P